INTERNATIONAL TRADE COMMISSION

[Investigation No. 731-TA-1058 (Second Review)]

Wooden Bedroom Furniture From China

Determination

On the basis of the record ¹ developed in the subject five-year review, the United States International Trade Commission (“Commission”) determines, pursuant to the Tariff Act of 1930 (“the Act”), that revocation of the antidumping duty order on wooden bedroom furniture from China would be likely to lead to continuation or recurrence of material injury to an industry in the United States within a reasonably foreseeable time.²

¹ The record is defined in sec. 207.2(f) of the Commission's Rules of Practice and Procedure (19 CFR 207.2(f)).

² Commissioner Dean A. Pinkert did not participate in this review.

Background

The Commission, pursuant to section 751(c) of the Act (19 U.S.C. 1675(c)), instituted this review on November 2, 2015 (80 FR 67417) and determined on February 5, 2016 that it would conduct a full review (81 FR 8991, February 23, 2016). Notice of the scheduling of the Commission's review and of a public hearing to be held in connection therewith was given by posting copies of the notice in the Office of the Secretary, U.S. International Trade Commission, Washington, DC, and by publishing the notice in the Federal Register on July 8, 2016 (81 FR 44659). The hearing was held in Washington, DC, on November 10, 2016, and all persons who requested the opportunity were permitted to appear in person or by counsel.

The Commission made this determination pursuant to section 751(c) of the Act (19 U.S.C. 1675(c)). It completed and filed its determination in this review on January 25, 2017. The views of the Commission are contained in USITC Publication 4665 (January 2017), entitled Wooden Bedroom Furniture from China: Investigation No. 731-TA-1058 (Second Review).

By order of the Commission.
Issued: January 25, 2017.
Lisa R. Barton,
Secretary to the Commission.

[FR Doc. 2017-02940 Filed 2-13-17; 8:45 am]

BILLING CODE P